DEPARTMENT OF HOMELAND SECURITY

Coast Guard

33 CFR Part 166

Shipping Safety Fairways

CFR Correction

In Title 33 of the Code of Federal Regulations, Parts 125 to 199, revised as of July 1, 2004, in part 166, on page 791, the following text from §§ 166.103, 166.105, 166.110, and 166.200 is reinstated:

Geographic coordinates expressed in terms of latitude or longitude, or both, are not intended for plotting on maps or charts whose referenced horizontal datum is the North American Datum of 1983 (NAD 83), unless such geographic coordinates are expressly labeled NAD 83. Geographic coordinates without the NAD 83 reference may be plotted on maps or charts referenced to NAD 83 only after application of the appropriate corrections that are published on the particular map or chart being used.

[CGD 86-082, 52 FR 33811, Sept. 8, 1987]

§ 166.105 Definitions.

(a) Shipping safety fairway or fairway means a lane or corridor in which no artificial island or fixed structure, whether temporary or permanent, will be permitted. Temporary underwater obstacles may be permitted under certain conditions described for specific areas in Subpart B. Aids to navigation approved by the U.S. Coast Guard may be established in a fairway.

(b) Fairway anchorage means an anchorage area contiguous to and associated with a fairway, in which fixed structures may be permitted within certain spacing limitations, as described for specific areas in Subpart B.

[CGD 81-80a, 48 FR 30110, June 30, 1983]

§ 166.110 Modification of areas.

Fairways and fairway anchorages are subject to modification in accordance with 33 U.S.C. 1223(c); 92 Stat. 1473.

[CGD 81-80a, 48 FR 30110, June 30, 1983]

Subpart B—Designations of Fairways and Fairway Anchorages

§ 166.200 Shipping safety fairways and anchorage areas, Gulf of Mexico.

(a) Purpose. Fairways and anchorage areas as described in this section are established to control the erection of structures therein to provide safe approaches through oil fields in the Gulf of Mexico to entrances to the major ports along the Gulf Coast.

(b) Special Conditions for Fairways in the Gulf of Mexico. Temporary anchors

[FR Doc. 05-55502 Filed 3-8-05; 8:45 am]

BILLING CODE 1505-01-D